DEPARTMENT OF THE INTERIOR

Fish and Wildlife Service

[Docket No. FWS-HQ-IA-2018-0108; FXIA16710900000-178-FF09A30000]

Foreign Endangered Species; Receipt of Permit Applications

AGENCY: Fish and Wildlife Service, Interior.

ACTION: Notice of receipt of permit applications; request for comments.

SUMMARY: We, the U.S. Fish and Wildlife Service, invite the public to comment on applications to conduct certain activities with foreign species that are listed as endangered under the Endangered Species Act (ESA). With some exceptions, the ESA prohibits activities with listed species unless Federal authorization is issued that allows such activities. The ESA also requires that we invite public comment before issuing permits for any activity otherwise prohibited by the ESA with respect to any endangered species.

DATES: We must receive comments by March 21, 2019.

ADDRESSES:

Obtaining Documents: The applications, application supporting materials, and any comments and other materials that we receive will be available for public inspection at http://www.regulations.gov in Docket No. FWS-HQ-IA-2018-0108.

Submitting Comments: When submitting comments, please specify the name of the applicant and the permit number at the beginning of your comment. You may submit comments by one of the following methods:

• Internet: http://www.regulations.gov. Search for and submit comments on Docket No. FWS-HQ-IA-2018-0108.

• U.S. mail or hand-delivery: Public Comments Processing, Attn: Docket No. FWS-HQ-IA-2012018-0108; U.S. Fish and Wildlife Service Headquarters, MS: BPHC; 5275 Leesburg Pike; Falls Church, VA 22041-3803.

For more information, see Public Comment Procedures under SUPPLEMENTARY INFORMATION.

FOR FURTHER INFORMATION CONTACT: Brenda Tapia, by phone at 703-358-2104, via email at DMAFR@fws.gov, or via the Federal Relay Service at 800-877-8339.

SUPPLEMENTARY INFORMATION:

I. Public Comment Procedures

A. How do I comment on submitted applications?

We invite the public and local, State, Tribal, and Federal agencies to comment on these applications. Before issuing any of the requested permits, we will take into consideration any information that we receive during the public comment period.

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(c) of the Endangered Species Act of 1973, as amended (ESA; 16 U.S.C. 1531 et seq.), we invite public comments on permit applications before final action is taken. With some exceptions, the ESA prohibits certain activities with listed species unless Federal authorization is issued that allows such activities. Permits issued under section 10(a)(1)(A) of the ESA allow otherwise prohibited activities for scientific purposes or to enhance the propagation or survival of the affected species. Service regulations regarding prohibited activities with endangered species, captive-bred wildlife registrations, and permits for any activity otherwise prohibited by the ESA with respect to any endangered species are available in title 50 of the Code of Federal Regulations in part 17.

III. Permit Applications

We invite comments on the following applications.

Applicant: Tufts University, Medford, MA; Permit No. 99652C

The applicant requests a permit to import biological samples of wild Andean condor (Vultur gryphus) from Chile for the purpose of scientific research. This notification is for a single import.

Applicant: Nicole Angeli, Smithsonian Institution, Washington DC; Permit No. 98899C

The applicant requests a permit to import a salvaged Virgin Islands tree boa (Epicrates monensis granti) from the British Virgin Islands for the purpose of scientific research. This notification is for a single import.

Applicant: De Novo Genomics Corporation, Kansas City, KS; Permit No. 01268D

The applicant requests a permit to import a scientific samples collected from captive-held and captive-bred Sumatran orangutans (Pongo abelii), western gorillas (Gorilla gorilla), central chimpanzees (Pan troglodytes) and bonobos (Pan paniscus) from the Copenhagen Zoo, Denmark, for the purpose of scientific research. This notification is for a single import.

Applicant: Warren Mabey, Pilesgrove, NJ; Permit No. 03090D

The applicant requests an interstate commerce permit to purchase two captive-bred Madagascar radiated tortoise (Astrochelys radiata) from a registered captive-bred wildlife breeder for the purpose of enhancing the propagation or survival of the species. This permit is for a single transaction.

Applicant: Metro Richmond Zoo, Moseley, VA; Permit No. 00398D

The applicant requests a captive-bred wildlife registration under 50 CFR 17.21(g) for the following species: Chimpanzee (Pan troglodytes), orangutan (Pongo pygmaeus x Pongo abelii hybrids), siamang (Symphalangus syndactylus), white-handed gibbon (Hylobates lar), Diana monkey (Cercopithecus diana), black and white ruffed lemur (Varecia variegata), red ruffed lemur (Varecia rubra), ring-tailed lemur (Lemur catta), Baird's tapir (Tapirus bairdii), Brazilian tapir (Tapirus terrestris), Malayan tapir (Tapirus indicus), bontebok (Damaliscus pygargus), cheetah (Acinonyx jubatus), African lion (Panthera leo), snow leopard (Uncia uncia), Galapagos tortoise (Chelonoidis niger), and komodo monitor (Varanus komodoensis), to enhance the propagation or survival of the species. This notification covers activities to be conducted by the applicant over a 5-year period.

Applicant: Gibbon Conservation Center, Santa Clarita, CA; Permit No. 757434

The applicant requests a captive-bred wildlife registration under 50 CFR 17.21(g) for the following species, to enhance the propagation or survival of the species: Silvery Javan gibbon (Hylobates moloch), pilated gibbon (Hylobates pileatus), northern white-cheeked gibbon (Nomascus leucogenys), siamang (Symphalangus syndactylus), and hoolock gibbon (Bunopithecus hoolock). This notification covers activities to be conducted by the applicant over a 5-year period.

Applicant: Fresno Chaffee Zoo, Fresno, CA; Permit No. 09932D

The applicant requests a captive-bred wildlife registration under 50 CFR 17.21(g) to enhance the propagation or survival of the following species:

Common name | Scientific name
African lion | Panthera leo.
Andean condor | Vultur gryphus.
Cheetah | Acinonyx jubatus.
Fiji banded iguana | Brachylophus fasciatus.
Goeldi's monkey | Callimico goeldii.
Golden lion tamarin | Leontopithecus rosalia.
Komodo monitor | Varanus komodoensis.
Tiger | Panthera tigris.
Red ruffed lemur | Varecia rubra.
Ring-tailed lemur | Lemur catta.
San Esteban Island chuckwalla | Sauromalus varius.

This notification covers activities to be conducted by the applicant over a 5-year period.

Applicant: Avian Preservation and Education Conservancy, Jacksonville, FL; Permit No. 94795C

The applicant requests a captive-bred wildlife registration under 50 CFR 17.21(g) for the red siskin (Carduelis cucullata), to enhance the propagation or survival of the species. This notification covers activities to be conducted by the applicant over a 5-year period.

Multiple Trophy Applicants

The following applicants request permits to import sport-hunted trophies of male bontebok (Damaliscus pygargus pygargus) culled from a captive herd maintained under the management program of the Republic of South Africa, for the purpose of enhancing the propagation or survival of the species.

Applicant: Owen Lawrence, Memphis, TN; Permit No. 02698D

Applicant: Dean Young, Franklin, ME; Permit No. 04447D

Applicant: David Cordex, Aurora, CO; Permit No. 06348D

Applicant: John Sholes, Gaithersburg, MD; Permit No. 11591D

Applicant: John Weinzierl, Houston, TX; Permit No. 11593D

Applicant: Arthur Newcombe, South Miami, FL; Permit No. 11665D

Applicant: Hugh Richardson, Houston, TX; Permit No. 08288D

Applicant: Michael Marinkovich, Redlands, CA; Permit No. 13028D

Applicant: James Werner, Midland, TX; Permit No. 15743D

Applicant: Christian Hansen, Bellevue, WA; Permit No. 13256D

IV. Next Steps

After the comment period closes, we will make decisions regarding permit issuance. If we issue permits to any of the applicants listed in this notice, we will publish a notice in the Federal Register. You may locate the notice announcing the permit issuance by searching http://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations.

Brenda Tapia,
Program Analyst/Data Administrator, Branch of Permits, Division of Management Authority.

[FR Doc. 2019-02570 Filed 2-15-19; 8:45 am]

BILLING CODE 4333-15-P